DEPARTMENT OF THE INTERIOR

Bureau of Indian Affairs

[190A2100DD/AAKC001030/A0A501010.999900253G]

Draft Environmental Impact Statement for the Proposed Redding Rancheria Fee-to-Trust and Casino Project, Shasta County, California

AGENCY: Bureau of Indian Affairs, Interior.

ACTION: Notice of comment period extension.

SUMMARY: The Bureau of Indian Affairs (BIA) is announcing a two-week extension of the comment period for the Draft Environmental Impact Statement (DEIS) for the Proposed Redding Rancheria Fee-to-Trust and Casino Project, Shasta County, California. The BIA published a Notice of Availability on April 10, 2019.

DATES: The BIA must receive all comments by June 17, 2019.

ADDRESSES: You may mail or hand deliver comments to Amy Dutschke, Regional Director, Bureau of Indian Affairs, Pacific Region, 2800 Cottage Way, Sacramento, California 95825. Please include your name, return address, and “DEIS Comments, Redding Rancheria Project” on the first page of your written comments. You may also submit comments through email to Chad Broussard, Environmental Protection Specialist, Bureau of Indian Affairs, at chad.broussard@bia.gov. Please include your name and return address on the first page of your written comments. If emailing comments, please use “DEIS Comments, Redding Rancheria Project” as the subject of your email.

FOR FURTHER INFORMATION CONTACT: Chad Broussard, Environmental Protection Specialist, Bureau of Indian Affairs, Pacific Regional Office, 2800 Cottage Way, Room W-2820, Sacramento, California 95825; telephone: (916) 978-6165; email: chad.broussard@bia.gov. Information is also available online at www.reddingeis.com.

SUPPLEMENTARY INFORMATION: On April 10, 2019, the BIA published in the Federal Register (84 FR 14391) a Notice of Availability for the DEIS the Proposed Redding Rancheria Fee-to-Trust and Casino Project, Shasta County, California. BIA then held a public hearing at the Redding Memorial Veterans Hall in Redding on May 20, 2019.

The DEIS has been prepared for the Redding Rancheria's (Tribe) application requesting that the United States acquire approximately 232 acres of land in trust in Shasta County, California. The proposed fee-to-trust property is located in an unincorporated part of Shasta County, California, approximately 1.6 miles northeast of the existing Redding Rancheria, and about two miles southeast of downtown Redding. The proposed trust property includes seven parcels, bound by Bechelli Lane on the north, private properties to the south, the Sacramento River on the west, and Interstate 5 on the east. The Tribe is proposing to construct a casino resort that includes a casino, hotel, event/convention center, outdoor amphitheater, retail center, and associated parking/infrastructure. The new facility would replace the Tribe's existing casino, and the Tribe would convert the existing casino buildings to a different Tribal use. Additional information on the proposed action, alternatives to the proposed action, and potential environmental impacts associated with the proposed action and alternatives can be found in the DEIS.

Locations where the DEIS is Available for Review: The DEIS is available for review during regular business hours (8 a.m.-4:30 p.m.) at the BIA Pacific Regional Office, 2800 Cottage Way, Sacramento, California, and the Redding Public Library, 1100 Parkview Avenue, Redding, California. The DEIS is also available online at http://www.reddingeis.com. To obtain a compact disc copy of the DEIS, please provide your name and address in writing or by phone to Chad Broussard, Bureau of Indian Affairs, Pacific Regional Office, 2800 Cottage Way, Sacramento, California; chad.broussard@bia.gov; telephone: (916) 978-6165. Individual paper copies of the DEIS will be provided upon payment of applicable printing expenses by the requestor for the number of copies requested.

Public Comment Availability: Comments, including names and addresses of respondents, will be available for public review at the BIA address shown in the ADDRESSES section, during regular business hours, 8 a.m. to 4:30 p.m., Monday through Friday, except holidays. Before including your address, telephone number, email address, or other personal identifying information in your comment, you should be aware that your entire comment—including your personal identifying information—may be made publicly available at any time. While you can ask in your comment that your personal identifying information be withheld from public review, the BIA cannot guarantee that this will occur.

Dated: May 23, 2019.
John Tahsuda,
Principal Deputy Assistant Secretary—Indian Affairs.

[FR Doc. 2019-11809 Filed 6-5-19; 8:45 am]

BILLING CODE 4337-15-P